DEPARTMENT OF COMMERCE

International Trade Administration

[A-570-893]

Certain Frozen Warmwater Shrimp From the People's Republic of China: Extension of Preliminary Results of Antidumping Duty Administrative Review

AGENCY: Import Administration, International Trade Administration, Department of Commerce.

SUMMARY: The Department of Commerce (“Department”) is extending the time limit for the preliminary results of the administrative review of certain frozen warmwater shrimp from the People's Republic of China (“PRC”). The review covers the period February 1, 2009, through January 31, 2010.

DATES: Effective Date: September 17, 2010.

FOR FURTHER INFORMATION CONTACT: Kabir Archuletta, AD/CVD Operations, Office 9, Import Administration, International Trade Administration, U.S. Department of Commerce, 1401 Constitution Avenue, NW., Washington, DC 20230; telephone: (202) 482-2593.

Background

On April 9, 2010, the Department published in the Federal Register a notice of initiation of the administrative reviews of the antidumping duty orders on certain frozen shrimp from the Socialist Republic of Vietnam and the PRC. See Notice of Initiation of Administrative Reviews and Requests for Revocation in Part of the Antidumping Duty Orders on Certain Frozen Warmwater Shrimp From the Socialist Republic of Vietnam and the People's Republic of China, 75 FR 18154 (April 9, 2010). The preliminary results of the reviews are currently due no later than October 31, 2010.

Statutory Time Limits

In antidumping duty administrative reviews, section 751(a)(3)(A) of the Tariff Act of 1930, as amended (“the Act”), requires the Department to make a preliminary determination within 245 days after the last day of the anniversary month of an order for which a review is requested and a final determination within 120 days after the date on which the preliminary results are published. However, if it is not practicable to complete the review within these time periods, section 751(a)(3)(A) of the Act allows the Department to extend the time limit for the preliminary determination to a maximum of 365 days after the last day of the anniversary month.

Extension of Time Limit for Preliminary Results of Review

We determine that it is not practicable to complete the preliminary results of the administrative review on certain frozen warmwater shrimp from the PRC within the original time limit because the Department requires additional time to analyze questionnaire responses, issue supplemental questionnaires, and to evaluate surrogate value submissions for purposes of these preliminary results.

Therefore, the Department is extending the time limit for completion of the preliminary results of the administrative review by 120 days. The preliminary results will now be due no later than February 28, 2011. The final results continue to be due 120 days after the publication of the preliminary results.

We are issuing and publishing this notice in accordance with sections 751(a)(3)(A) and 777(i) of the Act.

Dated: September 10, 2010.
Susan H. Kuhbach,
Acting Deputy Assistant Secretary for Antidumping and Countervailing Duty Operations.

[FR Doc. 2010-23346 Filed 9-16-10; 8:45 am]

BILLING CODE 3510-DS-P